DEPARTMENT OF AGRICULTURE

Animal and Plant Health Inspection Service

7 CFR Part 319

[Docket No. APHIS-2013-0079]

Khapra Beetle; New Regulated Countries and Regulated Articles

AGENCY: Animal and Plant Health Inspection Service, USDA.

ACTION: Final rule.

SUMMARY: We are adopting as a final rule, with changes, an interim rule that amended the khapra beetle regulations by adding additional regulated articles and regulated countries, updating the regulations to reflect changes in industry practices and country names that have changed since the regulations were originally published, and removing the list of countries where khapra beetle is known to occur from the regulations and moving it to the Plant Protection and Quarantine Web site. These actions were necessary to prevent the introduction of khapra beetle from infested countries on commodities that have been determined to be hosts for the pest, reflect current industry practices, and make it easier to make timely changes to the list of regulated countries.

DATES: This final rule is effective July 21, 2015.

FOR FURTHER INFORMATION CONTACT: Mr. George Apgar Balady, Senior Regulatory Policy Specialist, Regulatory Coordination and Compliance, PPQ, APHIS, 4700 River Road Unit 133, Riverdale, MD 20737-1236; (301) 851-2240.

SUPPLEMENTARY INFORMATION:

Background

In an interim rule ¹ effective and published in the Federal Register on December 29, 2014 (79 FR 77839-77841, Docket No. APHIS-2013-0079), we amended the khapra beetle regulations in 7 CFR part 319 by adding rice (Oryza sativa), chick peas (Cicer spp.), safflower seeds (Carthamus tinctorius), and soybeans (Glycine max) to the list of regulated articles in § 319.75-2 and prohibiting their entry into the United States unless accompanied by a phytosanitary certificate with an additional declaration stating that the articles in the consignment were inspected and found free of khapra beetle in accordance with § 319.75-9. We also added bulk, unpackaged seeds to the list of regulated articles due to their potential for infestation by khapra beetle. In addition, we updated the list of regulated countries in § 319.75-2(b) and moved that list to the Plant Protection and Quarantine (PPQ) Web site at http://www.aphis.usda.gov/import_export/plants/manuals/ports/downloads/kb.pdf. Countries will be added to the list of regulated areas when we receive official notification from the country that it is infested or when we intercept the pest in a commercial shipment from that country. Any future additions to the list of regulated areas will be conveyed through publication of a notice in the Federal Register.

¹ To view the interim rule and the comments we received, go to http://www.regulations.gov/#!docketDetail;D=APHIS-2013-0079.

Finally, we updated the regulations for certain commodities due to changes in industry practices that have affected the risk of khapra beetle being introduced into the United States. These actions were necessary to prevent the introduction of khapra beetle from infested countries on commodities that have been determined to be hosts for the pest, reflect current industry practices, and make it easier to make timely changes to the list of regulated countries.

We solicited comments concerning the interim rule for 60 days ending February 27, 2015. We received one comment by that date from a private citizen. The commenter discussed the rule in general terms without supporting or opposing any of its provisions.

Miscellaneous

Currently, the regulations state that plant gums and seeds shipped as bulk cargo in an unpackaged state are regulated articles. We are making a minor change to clarify that the seeds in this case are plant gum seeds and not all plant seeds. In addition, we are making corrections to the names of several taxa that were misspelled in § 319.75-2, footnote 2.

In the preamble of the interim rule, we stated that we were codifying the requirements of two Federal Orders that, among other things, prohibited the entry into the United States of rice, chick peas, safflower seeds, and soybeans in passenger baggage and personal effects. However, we inadvertently omitted that requirement from the regulations in § 319.75-2. We are correcting that omission in this final rule.

Therefore, for the reasons given in the interim rule and in this document, we are adopting the interim rule as a final rule, with the changes discussed in this document.

This final rule also affirms the information contained in the interim rule concerning Executive Order 12988 and the Paperwork Reduction Act.

Further, for this action, the Office of Management and Budget has waived its review under Executive Order 12866.

Regulatory Flexibility Act

This final rule follows an interim rule that amended the khapra beetle regulations by adding additional regulated articles and regulated countries, updating the regulations to reflect changes in industry practices and country names that have changed since the regulations were originally published, and removing the list of countries where khapra beetle is known to occur from the regulations and moving it to the Plant Protection and Quarantine Web site.

The U.S. entities that may be impacted by the rule are likely to be those involved in importing, handling, moving, processing, or selling regulated articles. The 2012 County Business Patterns (North American Industry Classification System) statistics corresponding to the Small Business Administration small-entity standards indicate that between 93 and 100 percent of these entities can be considered small. However, impacts of the rule are expected to be limited; the khapra beetle restrictions on rice imports have been in place since July 2012 and on the latter three crops since December 2011. In addition, none of the newly regulated areas (Kuwait, Oman, Qatar, the United Arab Emirates, and South Sudan, and the Palestinian Authority—West Bank) is an important source for the United States of major commodities known to host khapra beetle.

Under these circumstances, the Administrator of the Animal and Plant Health Inspection Service has determined that this action will not have a significant economic impact on a substantial number of small entities.

List of Subjects in 7 CFR Part 319

Coffee, Cotton, Fruits, Imports, Logs, Nursery stock, Plant diseases and pests, Quarantine, Reporting and recordkeeping requirements, Rice, Vegetables.

Accordingly, the interim rule amending 7 CFR part 319 that was published at 79 FR 77839-77841 on December 29, 2014, is adopted as a final rule with the following changes:

PART 319—FOREIGN QUARANTINE NOTICES

1. The authority citation for part 319 continues to read as follows:

Authority: 7 U.S.C. 450 and 7701-7772 and 7781-7786; 21 U.S.C. 136 and 136a; 7 CFR 2.22, 2.80, and 371.3.

2. Section 319.75-2 is amended as follows:

a. By revising paragraph (a)(1).

b. In paragraph (a)(3), by adding the words “plant gum” before the word “seeds”.

c. By revising the introductory text of paragraph (b).

The revisions read as follows:

§ 319.75-2 Regulated articles.¹

¹ The importation of regulated articles may be subject to prohibitions or additional restrictions under other provisions of 7 CFR part 319, such as Subpart—Foreign Cotton and Covers (see § 319.8) and Subpart—Fruits and Vegetables (see § 319.56).

(a) * * *

(1) Seeds of the plant family Cucurbitaceae ² if in shipments greater than 2 ounces, if not for propagation;

² Seeds of the plant family Cucurbitaceae include but are not limited to: Benincasa hispida (wax gourd), Citrullus lanatus (watermelon), Cucumis melo (muskmelon, cantaloupe, honeydew), Cucumis sativus (cucumber), Cucurbita pepo (pumpkin, squashes, vegetable marrow), Lagenaria siceraria (calabash, gourd), Luffa cylindrica (dishcloth gourd), Mormordica charantia (bitter melon), and Sechium edule (chayote).

* * * * *

(b) The following articles are regulated articles from all countries designated in accordance with paragraph (c) of this section as infested with khapra beetle or that have the potential to be infested with khapra beetle and are prohibited entry into the United States in passenger baggage and personal effects. Commercial shipments must be accompanied by a phytosanitary certificate issued in accordance with § 319.75-9 and containing an additional declaration stating: “The shipment was inspected and found free of khapra beetle (Trogoderma granarium).”

* * * * *

Done in Washington, DC, this 15th day of July 2015.
Kevin Shea,
Administrator, Animal and Plant Health Inspection Service.

[FR Doc. 2015-17842 Filed 7-20-15; 8:45 am]

BILLING CODE 3410-34-P